DEPARTMENT OF HEALTH AND HUMAN SERVICES

National Institutes of Health

Office of the Secretary; Amended Notice of Meeting

Notice is hereby given of a change in the meeting of the Interagency Pain Research Coordinating Committee, July 09, 2018, 02:00 p.m. to July 09, 2018, 04:00 p.m., National Institutes of Health, Building 31, 31 Center Drive, Conference Room 6, Bethesda, MD, 20892 which was published in the Federal Register on May 18, 2018, 83 FR 23283.

The meeting notice is amended to change the time of the meeting from 2-4 p.m. to 4-6 p.m. Date has not changed. The meeting is open to the public.

Dated: June 22, 2018.
Sylvia L. Neal,
Program Analyst, Office of Federal Advisory Committee Policy.

[FR Doc. 2018-13895 Filed 6-27-18; 8:45 am]

BILLING CODE 4140-01-P